DEPARTMENT OF ENERGY

International Energy Agency Meetings

AGENCY: Department of Energy.

ACTION: Notice of meetings.

SUMMARY: The Industry Advisory Board (IAB) to the International Energy Agency (IEA) will meet on September 18-19, 2018, at the Conference Centre of the French Ministry of Foreign Affairs, 27, Rue de la Convention, 75015 Paris, France.

DATES: September 18-19, 2018.

ADDRESSES: 27, Rue de la Convention, 75015 Paris, France.

FOR FURTHER INFORMATION CONTACT: Thomas Reilly, Assistant General Counsel for International and National Security Programs, Department of Energy, 1000 Independence Avenue SW, Washington, DC 20585, 202-586-5000.

SUPPLEMENTARY INFORMATION: In accordance with section 252(c)(1)(A)(i) of the Energy Policy and Conservation Act (42 U.S.C. 6272(c)(1)(A)(i)) (EPCA), the following notice of meetings is provided:

A meeting involving members of the Industry Advisory Board (IAB) to the International Energy Agency (IEA) in connection with a workshop meeting of the IEA's Standing Group on Emergency Questions (SEQ) will be held at the French Ministry of Foreign Affairs Building (Centre de Conférence Ministériel), 27 rue de la Convention, Paris 75015, France, on September 18-19, 2018. The purpose of the workshop is to discuss relevant key issues in order to establish a basis for drafting a proposal for possible improvements to the emergency oil stockholding requirement. The purpose of this notice is to permit attendance by representatives of U.S. company members of the IAB at a workshop meeting of the IEA's Standing Group on Emergency Questions (SEQ).

The agenda of the meeting is under the control of the IEA. It is expected that the IEA will adopt the following agenda:

Draft Agenda of the IEA's Workshop on the Review of the IEA Stockholding Requirement:

—Introduction by the Chairman

—Introduction by the IEA Secretariat

—Roundtable discussions—4 sessions on centralized topics

—Session 1—What to prepare for

—Session 2—How to divide the level of stocks needed

Session 3—What to count as stocks contributing to the obligation

—Session 4—Flexibility to make this work

—Wrap-up and conclusions

Close

As provided in section 252(c)(1)(A)(ii) of the Energy Policy and Conservation

Act (42 U.S.C. 6272(c)(1)(A)(ii)), the meetings of the IAB are open to representatives of members of the IAB and their counsel; representatives of members of the IEA's Standing

Group on Emergency Questions and the IEA's Group of Reporting Companies; representatives of the Departments of Energy, Justice, and State, the Federal Trade Commission, the General Accounting Office, Committees of Congress, the IEA, and the European Commission; and invitees of the IAB or the IEA.

Issued in Washington, DC, September 5, 2018.
Thomas Reilly,
Assistant General Counsel for International and National Security Programs.

[FR Doc. 2018-19582 Filed 9-7-18; 8:45 am]

BILLING CODE 6450-01-P